OFFICE OF SPECIAL COUNSEL

[OMB Control No. 3255-0005]

Submission for Review: OSC Form-14

AGENCY: Office of Special Counsel (OSC)

ACTION: 30-Day notice and request for comments.

SUMMARY: OSC is providing 30 additional days for individuals to comment on OSC Form-14, the form used to file complaints and disclosures with OSC.

DATES: Comments are encouraged and will be accepted until March 2, 2020.

ADDRESSES: Interested persons are invited to submit written comments on the proposed information collection to the Office of Information and Regulatory Affairs, Office of Management and Budget, 725 17th Street NW, Washington, DC 20503, Attention: Desk Officer for the Office of Special Counsel or sent via electronic mail to oira_submission@omb.eop.gov or faxed to (202) 395-6974.

FOR FURTHER INFORMATION CONTACT: A copy of this ICR, with applicable supporting documentation, may be obtained by contacting the Office of Information and Regulatory Affairs, Office of Management and Budget, 725 17th Street NW, Washington, DC 20503, Attention: Desk Officer for the Office of Special Counsel or sent via electronic mail to oira_submission@omb.eop.gov or faxed to (202) 395-6974.

SUPPLEMENTARY INFORMATION: OSC is a permanent independent federal investigative and prosecutorial agency. OSC's basic authorities come from four federal statutes: The Civil Service Reform Act, the Whistleblower Protection Act, the Hatch Act, and the Uniformed Services Employment & Reemployment Rights Act. OSC's primary mission is to safeguard the merit system by protecting federal employees and applicants from prohibited personnel practices, especially reprisal for whistleblowing, and to serve as a safe channel for allegations of wrongdoing.

OSC offers the general public and other Federal agencies the opportunity to comment on an existing information collection request (ICR) Reference Number 201907-3255-002. As required by the Paperwork Reduction Act of 1995, Public Law 104-13 (44 U.S.C. chapter 35), OSC is soliciting comments for this collection. In particular, OSC and the Office of Management and Budget are interested in comments on this information collection request that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submissions of responses.

This information collection was previously published in the Federal Register at 84 FR 55188 allowing for a 60-day public comment period. One (1) commenter responded to the notice and provided two (2) suggestions. One suggestion was to add capability for additional interactive “platforms” complainants could use to submit OSC Form-14. OSC's technical team considered the comment but decided not to add platforms because implementing new capabilities at this time would take additional time, resources, and budget. The current platform is a dynamic fillable Adobe PDF form which allows users to file without having to log into a system and gives them the ability to keep a copy of the file they submitted. Adobe Acrobat Reader DC software is the free global standard for reliably viewing, printing, and commenting on PDF documents. OSC will continue to consider updating capabilities in the future. The other suggestion was to combine retaliation claims alleging unlawful reprisal for engaging in whistleblowing or engaging in protected activity under 5 U.S.C. 2302(b)(8) and (b)(9), arguing that the separate boxes would be “confusing” to pro se complainants. OSC does not adopt the proposed suggestion, first, because the separate categories are precisely defined at the beginning of the document, and also because the second category, protected activity, includes a more expansive list of protected activities such as pursuing an appeals process or refusing to obey an order that the employee reasonably believes is contrary to law, rule, or regulation, that may not involve whistleblowing. Because the legal ramifications for whistleblower retaliation claims are different from most of the claims alleging retaliation for engaging in protected activity, OSC needs to maintain two distinct allegation boxes.

Analysis

Agency: U.S. Office of Special Counsel.

Title: OSC Form-14: Electronic Submission of Allegations and Disclosures.

OMB Control No.: 3255-0005.

Frequency of Use of Updated OSC Form-14: Daily.

Affected Public: Current and former Federal employees, applicants for Federal employment, state and local government employees, and their representatives, and the general public.

Number of Respondents: 6000 (estimate based on a review of recent OSC Annual Reports and Congressional Budget Justifications, and trends).

Estimated Average Amount of Time for a Person to Respond Using OSC Form-14: For prohibited personnel practice and other prohibited activities allegations, one hour and 15 minutes; for whistleblower disclosures, one hour; and for Hatch Act allegations, 30 minutes to complete the form. OSC based these estimates on testing completed by OSC employees during the development of the collection form.

Estimated Annual Burden for Filing OSC Form-14: 6917.5 hours.

Abstract: The electronic form must be used to submit allegations of possible prohibited personnel practices or other prohibited activity for investigation and possible prosecution by OSC, and to file disclosures of covered wrongdoing for review and possible referral to heads of agencies. The form may also be used by individuals to file complaints under the Hatch Act.

Dated: January 27, 2020.
Travis Millsaps,
Deputy Special Counsel for Public Policy.

[FR Doc. 2020-01768 Filed 1-30-20; 8:45 am]

BILLING CODE 7405-01-P